DEPARTMENT OF ENERGY

Federal Energy Regulatory Commission

[Docket No. EG00-101-000, et al.]

Fulton Cogeneration Associates, L.P., et al.; Electric Rate and Corporate Regulation Filings

February 25, 2000.

Take notice that the following filings have been made with the Commission:

1. Fulton Cogeneration Associates, L.P.

[Docket No. EG00-101-000]

Take notice that on February 22, 2000, Fulton Cogeneration Associates, L.P. (Applicant), Nine Greenway Plaza, Houston, Texas filed with the Federal Energy Regulatory Commission an application for determination of exempt wholesale generator status pursuant to part 365 of the Commission's regulations.

Applicant, a New York limited partnership owns the Manchief Power Station near Brush, Colorado. These facilities consist of a 250 MW single cycle peaking facility, and facilities necessary to interconnect with Public Service Company of Colorado.

Comment date: March 17, 2000, in accordance with Standard Paragraph E at the end of this notice. The Commission will limit its consideration of comments to those that concern the adequacy or accuracy of the application.

2. Electric Energy, Inc.

[Docket No. ES00-18-000]

Take notice that on February 17, 2000, Electric Energy, Inc. submitted an application under Section 204 of the Federal Power Act seeking authorization to issue notes under the terms of certain unsecured revolving credit agreements or under terms substantially similar thereto in an amount not to exceed $45,000,000, from time to time, over a 24-month period.

Comment date: March 17, 2000, in accordance with Standard Paragraph E at the end of this notice.

3. Daniel L. Mineck

[Docket No. ID-3456-000]

Take notice that on February 18, 2000, Daniel L. Mineck filed an Application for Authority to Hold Interlocking Positions and requests that said authority be granted by the Federal Energy Regulatory Commission (the Commission) under Section 305(b) of the Federal Power Act.

Comment date: March 20, 2000, in accordance with Standard Paragraph E at the end of this notice.

4. Deseret Generation & Transmission Co-operative Inc.

[Docket No. ER00-1664-000]

Take notice that on February 22, 2000, Deseret Generation & Transmission Co-operative, Inc. (Deseret), tendered for filing an executed umbrella short-term firm point-to-point service agreement with Tri-State Generation and Transmission Association, Inc. (Tri-State) under its open access transmission tariff.

Deseret requests a waiver of the Commission's notice requirements for an effective date of February 22, 2000. Deseret's open access transmission tariff is currently on file with the Commission in Docket No. OA97-487-000.

Tri-State has been provided a copy of this filing.

Comment date: March 14, 2000, in accordance with Standard Paragraph E at the end of this notice.

5. SOWEGA Power LLC

[Docket No. ER00-1668-000]

Take notice that on February 22, 2000, SOWEGA Power LLC tendered for filing, pursuant to Section 205 of the Federal Power Act, an umbrella service agreement with Coral Power, L.L.C., under SOWEGA's market-based sales tariff, SOWEGA FERC Rate Schedule No. 1.

SOWEGA seeks a waiver of the Commission's 60 day prior notice and filing requirements and requests an effective date from the Commission as of July 3, 1999.

Comment date: March 14, 2000, in accordance with Standard Paragraph E at the end of this notice.

6. Commonwealth Edison Company

[Docket No. ER00-1669-000]

Take notice that on February 22, 2000, Commonwealth Edison Company (ComEd), tendered for filing four Non-Firm Transmission Service Agreements with Florida Power & Light Company, (FPL), FPL Energy Power Marketing, Inc. (FPMI), British Columbia Power Exchange Corporation—Powerex (PE), and Allegheny Energy Supply Company, LLC, (AESC), and three Short-Term Firm Transmission Service Agreements with PE, AESC, and Engage Energy US L.P. (EE), under the terms of ComEd’s Open Access Transmission Tariff (OATT).

ComEd also tendered for filing a revised Index of Customers reflecting name changes for current customers Citizens Power Sales to Citizens Power Sales, LLC (CPS), and El Paso Power Services Company and Sonat Power Marketing Company L.P., consolidated and renamed El Paso Merchant Energy, L.P. (EPME).

ComEd requests an effective date of February 21, 2000 for the service agreements, and accordingly, seeks waiver of the Commission's notice requirements.

Copies of this filing were served on FPL, FPMI, PE, AESC, EE, CPS, and EPME.

Comment date: March 14, 2000, in accordance with Standard Paragraph E at the end of this notice.

7. New Century Services, Inc.

[Docket No. ER00-1661-000]

Take notice that on February 22, 2000, New Century Services, Inc. on behalf of Cheyenne Light, Fuel and Power Company, Public Service Company of Colorado, and Southwestern Public Service Company (collectively Companies), tendered for filing a Service Agreement under their Joint Open Access Transmission Service Tariff for Firm Point-to-Point Transmission Service between the Companies and British Columbia Power Exchange Corporation (Powerex).

Comment date: March 14, 2000, in accordance with Standard Paragraph E at the end of this notice.

8. Virginia Electric and Power Company

[Docket No. ER00-1662-000]

Take notice that on February 22, 2000, Virginia Electric and Power Company (Virginia Power), tendered for filing the Service Agreement between Virginia Electric and Power Company and Illinova Power Marketing, Inc. Under the Service Agreement, Virginia Power will provide services to Illinova Power Marketing, Inc., under the terms of the Company's Revised Market-Based Rate Tariff designated as FERC Electric Tariff (Second Revised Volume No. 4), which was accepted by order of the Commission dated August 13, 1998 in Docket No. ER98-3771-000.

Virginia Power requests an effective date of January 28, 2000, the date service was first provided to Illinova Power Marketing, Inc.

Copies of the filing were served upon Illinova Power Marketing, Inc., the Virginia State Corporation Commission and the North Carolina Utilities Commission.

Comment date: March 14, 2000, in accordance with Standard Paragraph E at the end of this notice.

9. Deseret Generation & Transmission Co-operative

[Docket No. ER00-1665-000]

Take notice that on February 22, 2000, Deseret Generation & Transmission Co-operative, Inc. (Deseret), tendered for filing an executed umbrella non-firm point-to-point service agreement with Tri-State Generation and Transmission Association, Inc. (Tri-State) under its open access transmission tariff.

Deseret requests a waiver of the Commission's notice requirements for an effective date of February 22, 2000. Deseret's open access transmission tariff is currently on file with the Commission in Docket No. OA97-487-000.

Tri-State has been provided a copy of this filing.

Comment date: March 14, 2000, in accordance with Standard Paragraph E at the end of this notice.

10. North American Electric Reliability Council

[Docket No. ER00-1666-000]

Take notice that on February 22, 2000, the North American Electric Reliability Council filed a revised version of its Transmission Loading Relief procedures.

Comment date: March 14, 2000, in accordance with Standard Paragraph E at the end of this notice.

11. Commonwealth Edison Company

[Docket No. ER00-1667-000]

Take notice that on February 21, 2000, Commonwealth Edison Company (ComEd), tendered for filing a service agreement establishing British Columbia Power Exchange Corporation-Powerex (PE), as a customer under ComEd's FERC Electric Market Based-Rate Schedule for power sales.

ComEd requests an effective date of February 21, 2000, for the Service Agreement, and accordingly, seeks waiver of the Commission's notice requirements.

Copies of the filing were served on PE.

Comment date: March 14, 2000, in accordance with Standard Paragraph E at the end of this notice.

12. Western System Coordinating Council

[Docket No. ER00-1670-000]

Take notice that on February 22, 2000, the Western Systems Coordinating Council (WSCC), tendered for filing certain revision to its Unscheduled Flow Mitigation Plan (Plan). The WSCC states that these changes are intended to update and improve the terms of the Plan in light of operational experiences, changes in the industry and changes within the WSCC.

The WSCC requests an effective date of February 23, 2000, for these changes.

Copies of this filing were served on all members of the WSCC and all affected state commissions.

Comment date: March 14, 2000, in accordance with Standard Paragraph E at the end of this notice.

13. New York State Reliability Council

[Docket No. ER00-1671-000]

Take notice that on February 22, 2000, the New York State Reliability Council (NYSRC), tendered for filing a new state-wide annual Installed Capacity Requirement for the New York Control Area for the Capability Year beginning on May 1, 2000 and ending April 30, 2001. The NYSRC respectfully requests Commission acceptance and approval of this filing on or before March 17, 2000, so that the revised Installed Capacity Requirement may be in place for the installed capacity auction to be conducted by the New York Independent System Operator on March 17, 2000.

A copy of this filing was served upon all persons on the Commission's official service list in Docket Nos. ER97-1523 et al., and the respective electric utility regulatory agencies in New York, New Jersey and Pennsylvania.

Comment date: March 14, 2000, in accordance with Standard Paragraph E at the end of this notice.

14. Louisville Gas and Electric Company/Kentucky Utilities Company

[Docket No. ER00-1673-000]

Take notice that on February 23, 2000, Louisville Gas and Electric Company (LG&E)/Kentucky Utilities (KU) (hereinafter Companies), tendered for filing fully executed Netting Agreements between the Companies and FirstEnergy Corp.

Comment date: March 15, 2000, in accordance with Standard Paragraph E at the end of this notice.

15. Avista Corp.

[Docket No. ER00-1674-000]

Take notice that on February 23, 2000, Avista Corp. (AVA), tendered for filing with the Federal Energy Regulatory Commission executed Service Agreements for Short-Term Firm and Non-Firm Point-To-Point Transmission Service under AVA's Open Access Transmission Tariff—FERC Electric Tariff, Volume No. 8 with PP&L Montana, LLC (PPLM) and TransCanada Power.

AVA requests the Service Agreements be given respective effective dates of November 4, 1999 and January 21, 2000.

Comment date: March 15, 2000, in accordance with Standard Paragraph E at the end of this notice.

16. Reliant Energy Desert Basin, LLC

[Docket No. ER00-1675-000]

Take notice that on February 23, 2000, Reliant Energy Desert Basin, LLC (Reliant Energy Desert Basin), tendered for filing pursuant to Rule 205, 18 CFR 385.205, a petition for waivers and blanket approvals under various regulations of the Commission and for an order accepting its FERC Electric Rate Schedule No. 1 authorizing Reliant Energy Desert Basin to make sales at market-based rates.

Reliant Energy Desert Basin intends to sell electric power at wholesale. In transactions where Reliant Energy Desert Basin sells electric energy, it proposes to make such sales on rates, terms, and conditions to be mutually agreed to with the purchasing party. Reliant Energy Desert Basin's Rate Schedule provides for the sale of energy and capacity at agreed prices.

Comment date: March 15, 2000, in accordance with Standard Paragraph E at the end of this notice.

17. Fulton Cogeneration Associates, L.P.

[Docket No. ER00-1676-000]

Take notice that on February 22, 2000, Fulton Cogeneration Associates, L.P. (Fulton), tendered for filing an application for an order accepting its FERC Electric Rate Schedule No. 1 which will permit Fulton to make wholesale sales of electric power to eligible customers at market-based rates. Fulton is the owner of a new generating plant located near Brush, Colorado that will be selling most of its output to Public Service Company of Colorado under a negotiated long-term purchase power agreement.

Comment date: March 14, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-5115 Filed 3-2-00; 8:45 am]

BILLING CODE 6717-01-P